ENVIRONMENTAL PROTECTION AGENCY

40 CFR Part 52

[EPA-R09-OAR-2018-0282; FRL-9979-34—Region 9]

Approval of Air Plan Revisions; Approvals and Promulgations: California; Placer County Air Pollution Control District; Stationary Source Permits

AGENCY: Environmental Protection Agency (EPA).

ACTION: Proposed rule.

SUMMARY: The Environmental Protection Agency (EPA) is proposing to approve a revision to the Placer County Air Pollution Control District (PCAPCD) portion of the California State Implementation Plan (SIP). This revision concerns the District's Prevention of Significant Deterioration (PSD) permitting program for new and modified sources of air pollution. We are proposing action on a local rule under the Clean Air Act as amended in 1990 (CAA or the Act). We are taking comments on this proposal and plan to follow with a final action.

DATES: Any comments must arrive by July 16, 2018.

ADDRESSES: Submit your comments, identified by Docket ID No. EPA-R09-OAR-2018-0282 at http://www.regulations.gov, or via email to Laura Yannayon, at yannayon.laura@epa.gov. For comments submitted at Regulations.gov, follow the online instructions for submitting comments. Once submitted, comments cannot be removed or edited from Regulations.gov. For either manner of submission, the EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, please contact the person identified in the FOR FURTHER INFORMATION CONTACT section. For the full EPA public comment policy, information about CBI or multimedia submissions, and general guidance on making effective comments, please visit https://www.epa.gov/dockets/commenting-epa-dockets.

FOR FURTHER INFORMATION CONTACT: Laura Yannayon, EPA Region IX, (415) 972-3534, yannayon.laura@epa.gov.

SUPPLEMENTARY INFORMATION: Throughout this document, “we,” “us” and “our” refer to the EPA.

Table of Contents

I. The State's Submittal

A. What rule did the State submit?

B. Are there other versions of this rule?

C. What is the purpose of the submitted rule?

II. The EPA's Evaluation and Action

A. How is the EPA evaluating the rule?

B. Does the rule meet the evaluation criteria?

C. The EPA's Proposed Action and Public Comment

III. Incorporation by Reference

IV. Statutory and Executive Order Reviews

I. The State's Submittal

A. What rule did the State submit?

Table 1 lists the rule addressed by this proposal with the dates that it was amended by the PCAPCD and submitted by the California Air Resources Board (CARB), which is the governor's designee for California SIP submittals.

Table 1—Submitted Rule
Rule No. | Rule title | Adopted or amended | Submitted
518 | Prevention of Significant Deterioration (PSD) Permit Program | 10/13/16 | 1/24/17

On April 17, 2017, the EPA determined that CARB's January 24, 2017, SIP submittal package conformed to the completeness criteria in 40 CFR part 51, appendix V, which must be met before formal EPA review.

B. Are there other versions of this rule?

The current SIP-approved version of Rule 518—Prevention of Significant Deterioration (PSD) Permit Program was approved by EPA on December 10, 2012. 77 FR 73316.

C. What is the purpose of the submitted rule?

Section 110(a)(2)(C) of the CAA requires states to submit regulations that include a preconstruction permit program for certain new or modified stationary sources of pollutants, including a permit program as required by part C of title I of the CAA. This part, and the EPA's implementing regulations at 40 CFR 51.166, provide requirements for the prevention of significant deterioration (PSD) program, which applies to new and modified major sources of regulated New Source Review pollutants located in areas that are designated attainment or unclassifiable for those pollutants.

Rule 518 implements the federal PSD permit program for Placer County. The submitted rule has been revised to update and clarify the rule. See our technical support document (TSD), which can be found in the docket for this rule, for additional information about the rule and rule revisions.

II. The EPA's Evaluation and Action

A. How is the EPA evaluating the rule?

The submitted rule must meet the CAA's general requirements for SIPs and SIP revisions in CAA sections 110(a)(2) and 110(l) as well as the applicable requirements for a PSD permit program contained in part C of title I of the Act and 40 CFR 51.166.

Section 110(a)(2)(A) of the Act requires that SIP rules be enforceable. Section 110(l) provides that the EPA may not approve a SIP revision if it would interfere with any applicable requirements concerning attainment and reasonable further progress or any other applicable requirement of the CAA. In addition, section 110(a)(2) and section 110(l) of the Act require that each SIP or revision to a SIP submitted by a state must be adopted after reasonable notice and public hearing.

Part C of title I of the Act contains the general permit requirements for new major sources and major modifications proposing to construct in attainment areas. Additionally, 40 CFR 51.166 sets forth the EPA's regulatory requirements for SIP approval of a PSD permit program.

B. Does the rule meet the evaluation criteria?

The EPA has reviewed the submitted rule in accordance with the rule evaluation criteria described above. With respect to the procedural requirements at CAA sections 110(a)(2) and 110(l), we are proposing to approve the submitted rule because we have determined, based on our review of the public process documentation included in the January 24, 2017 submittal, that the PCAPCD has provided sufficient evidence of public notice and opportunity for comment and public hearing prior to adoption and submittal of this rule.

With respect to the rest of the evaluation criteria, we are proposing to approve the submitted rule because we have determined that the rule satisfies the substantive statutory and regulatory requirements for a PSD permit program as set forth in the applicable provisions of part C of title I of the Act and in 40 CFR 51.166. This determination is based on our review of Rule 518 and clarifying information provided by the District in a letter dated May 22, 2018 (available in the docket for this action). Our TSD for this action contains a more detailed discussion of our evaluation.

C. The EPA's Proposed Action and Public Comment

As authorized in section 110(k)(3) of the Act, the EPA proposes to fully approve the submitted rule because it fulfills all relevant requirements. We will accept comments from the public on this proposal until July 16, 2018. If we take final action to approve the submitted rule, our final action will incorporate this rule into the Placer County portion of the California SIP.

III. Incorporation by Reference

In this rule, the EPA is proposing to include in a final EPA rule regulatory text that includes incorporation by reference. In accordance with requirements of 1 CFR 51.5, the EPA is proposing to incorporate by reference the PCAPCD rule described in Table 1 of this preamble. The EPA has made, and will continue to make, these materials available through www.regulations.gov and at the EPA Region IX Office (please contact the person identified in the FOR FURTHER INFORMATION CONTACT section of this preamble for more information).

IV. Statutory and Executive Order Reviews

Under the Clean Air Act, the Administrator is required to approve a SIP submission that complies with the provisions of the Act and applicable federal regulations. 42 U.S.C. 7410(k); 40 CFR 52.02(a). Thus, in reviewing SIP submissions, the EPA's role is to approve state choices, provided that they meet the criteria of the Clean Air Act. Accordingly, this proposed action merely proposes to approve state law as meeting federal requirements and does not impose additional requirements beyond those imposed by state law. For that reason, this proposed action:

• Is not a “significant regulatory action” subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide the EPA with the discretionary authority to address disproportionate human health or environmental effects with practical, appropriate, and legally permissible methods under Executive Order 12898 (59 FR 7629, February 16, 1994).

In addition, the SIP is not approved to apply on any Indian reservation land or in any other area where the EPA or an Indian tribe has demonstrated that a tribe has jurisdiction. In those areas of Indian country, the rule does not have tribal implications and will not impose substantial direct costs on tribal governments or preempt tribal law as specified by Executive Order 13175 (65 FR 67249, November 9, 2000).

List of Subjects in 40 CFR Part 52

Air pollution control, Environmental protection, Incorporation by reference, Intergovernmental relations, New source review, Reporting and recordkeeping requirements.

Authority: 42 U.S.C. 7401 et seq.

Dated: June 4, 2018.
Michael Stoker,
Regional Administrator, Region IX.

[FR Doc. 2018-12711 Filed 6-13-18; 8:45 am]

BILLING CODE 6560-50-P